DEPARTMENT OF THE INTERIOR

Bureau of Land Management

[LLMTL060-L16100000-DR0000]

Notice of Availability of the Record of Decision and Approved Resource Management Plan for the Lewistown Field Office, Montana

AGENCY: Bureau of Land Management, Interior.

ACTION: Notice of availability.

SUMMARY: In accordance with the National Environmental Policy Act of 1969, as amended, and the Federal Land Policy and Management Act of 1976 (FLPMA), as amended, the Department of the Interior, Montana/Dakotas Bureau of Land Management (BLM) has prepared a Record of Decision (ROD) and Approved Resource Management Plan (RMP) with an associated Final Environmental Impact Statement for BLM public lands and resources managed by the Lewistown Field Office, and a portion of the Butte Field Office in northern Lewis and Clark County, Montana. By this notice, the BLM is announcing the availability of the ROD and Approved RMP.

ADDRESSES: Copies of the ROD and Approved RMP are available at the Lewistown Field Office, 920 NE Main Street, Lewistown, MT 59457, or may be viewed online at: https://eplanning.blm.gov.

FOR FURTHER INFORMATION CONTACT: Dan Brunkhorst, RMP Project Manager, Lewistown Field Office, at telephone: (406) 538-1981, and at the mailing address and website listed earlier. Persons who use a telecommunications device for the deaf (TDD) may call the Federal Relay Service (FRS) at 1-800-877-8339 to contact Mr. Brunkhorst during normal business hours. The FRS is available 24 hours a day, 7 days a week, to leave a message or question. You will receive a reply during normal business hours.

SUPPLEMENTARY INFORMATION: The Lewistown Approved RMP replaces both the 1994 Judith RMP and the 1984 Headwaters RMP. The Lewistown Approved RMP provides a single, comprehensive land use plan that guides management on approximately 651,200 acres of BLM-managed public lands and 1,196,800 acres of Federal mineral estate in central Montana in Cascade, Fergus, Judith Basin, Meagher, Petroleum, Pondera, Teton, Chouteau, and Lewis and Clark counties. These lands and minerals are managed by two BLM offices located in Lewistown and Butte, Montana. The BLM developed the Lewistown RMP in collaboration with nine cooperating agencies.

The alternative selected as the Approved RMP is a slightly modified version of Alternative C2, as described in the Proposed RMP. It provides for a balanced combination of goals, objectives, allowable uses, and management actions. The Notice of Availability for the Lewistown Proposed RMP was published in the Federal Register on February 14, 2020, which initiated a 30-day protest period and a 60-day Governor's consistency review period (85 FR 8607). The BLM received 150 timely protest submissions. All protests have been resolved and/or dismissed by the BLM Director. For a full description of the issues raised during the protest period and how they were addressed, please refer to the Director's Protest Resolution Report, which is available at the website listed earlier (see ADDRESSES).

The Montana Governor submitted a letter identifying certain concerns related to the consistency of the Proposed RMP with State plans. After a thorough review, the BLM determined that the Approved RMP is consistent with existing State plans; however, as a result of the Governor's consistency review comments, the BLM clarified in the glossary that administrative use applies to State access needs, and provided additional wording in the Judith Mountains Special Recreation Management Area for the protection of westslope cutthroat trout habitat.

The Approved RMP identifies comprehensive long-range decisions for the management and use of resources on BLM-administered public lands, focusing on the principles of multiple use and sustained yield set forth in FLPMA.

Authority: 40 CFR 1506.6 and 43 CFR 1610.2.

John Mehlhoff,
State Director, Montana/Dakotas BLM.

[FR Doc. 2020-16925 Filed 8-3-20; 8:45 am]

BILLING CODE 4310-DN-P